DEPARTMENT OF THE INTERIOR

National Indian Gaming Commission

25 CFR Part 575

Civil Penalty Inflation Adjustment

AGENCY: National Indian Gaming Commission.

ACTION: Interim final rule.

SUMMARY: In compliance with the Federal Civil Penalties Inflation Adjustment Act Improvements Act of 2015 and Office of Management and Budget (OMB) guidance, this rule adjusts the level of the civil monetary penalty, contained in the National Indian Gaming Commission's (NIGC or Commission) regulation, with an initial “catch-up” adjustment.

DATES: This interim final rule will have an effective date of August 1, 2016.

FOR FURTHER INFORMATION CONTACT: Contact Armando J. Acosta, Senior Attorney, Office of General Counsel, National Indian Gaming Commission, at (202) 632-7003; fax (202) 632-7066 (not toll-free numbers).

SUPPLEMENTARY INFORMATION:

I. Background

On November 2, 2015, the President signed into law the Federal Civil Penalties Inflation Adjustment Act Improvements Act of 2015 (Sec. 701 of Pub. L. 114-74) (the Act). The Act requires federal agencies to adjust the level of civil monetary penalties with an initial “catch-up” adjustment through an interim final rulemaking and then make subsequent annual adjustments for inflation. A civil monetary penalty is any assessment with a dollar amount that is levied for a violation of a federal civil statute or regulation, and is assessed or enforceable through a civil action in federal court or an administrative proceeding.

II. Calculation of Adjustment

The OMB issued guidance on calculating the catch-up adjustment. See February 24, 2016, Memorandum for the Heads of Executive Departments and Agencies, from Shaun Donovan, Director, Office of Management and Budget, Subject: Implementation of the Federal Civil Penalties Inflation Adjustment Act Improvements Act of 2015. Under this guidance, the Commission has identified one applicable civil monetary penalty and calculated the catch-up adjustment. This rule adjusts the level of the civil monetary penalty contained in 25 CFR 575.4 (“The Chairman may assess a civil fine, not to exceed $25,000 per violation, against a tribe, management contractor, or individual operating Indian gaming for each notice of violation . . .”). The OMB provided to agencies a table of multipliers to adjust the penalty level based on the year that the penalty was established or last adjusted by statute or regulation. The multiplier for 1988 (when the Indian Gaming Regulatory Act was enacted) is 1.97869 ($25,000 × 1.97869 = $49,467).

III. Regulatory Matters

Regulatory Planning and Review

This interim final rule is not a significant rule and OMB has reviewed this rule under Executive Order 12866. This rule provides an initial catch-up adjustment of penalties to account for inflation.

(1) This rule will not have an effect of $100 million or more on the economy or will not adversely affect, in a material way, the economy, productivity, competition, jobs, the environment, public health or safety, or state, local, or tribal governments or communities.

(2) This rule will not create a serious inconsistency or otherwise interfere with an action taken or planned by another agency.

(3) This rule does not involve entitlements, grants, user fees, or loan programs or the rights or obligations of recipients.

(4) This regulatory change does not raise novel legal or policy issues.

Regulatory Flexibility Act

The Commission certifies that this document will not have a significant economic effect on a substantial number of small entities under the Regulatory Flexibility Act (5 U.S.C. 601 et seq.) because the rule makes adjustments for inflation.

Small Business Regulatory Enforcement Fairness Act

This interim final rule is not a major rule under 5 U.S.C. 804(2), the Small Business Regulatory Enforcement Fairness Act. It will not result in the expenditure by state, local, or tribal governments, in the aggregate, or by the private sector of $100 million or more in any one year. The rule will not result in a major increase in costs or prices for consumers, individual industries, federal, state, or local government agencies, or geographic regions. Nor will this rule have significant adverse effects on competition, employment, investment, productivity, innovation, or the ability of the U.S.-based enterprises to compete with foreign-based enterprises.

Unfunded Mandates Reform Act

This interim final rule does not impose an unfunded mandate of more than $100 million per year on state, local, or tribal governments or the private sector. The rule also does not have a significant or unique effect on state, local, or tribal governments or the private sector. Therefore, a statement containing the information required by the Unfunded Mandates Reform Act (2 U.S.C. 1531 et seq.) is not required.

Takings

Under the criteria in Executive Order 12630, this interim final rule does not affect individual property rights protected by the Fifth Amendment nor does it involve a compensable “taking.” Thus, a takings implication assessment is not required.

Federalism

Under the criteria in Executive Order 13132, this interim final rule has no substantial direct effect on the states, on the relationship between the national government and the states, or on the distribution of power and responsibilities among the various levels of government.

Civil Justice Reform

This interim final rule complies with the requirements of Executive Order 12988. Specifically, this rule has been reviewed to eliminate errors and ambiguity and written to minimize litigation. It is written in clear language and contains clear legal standards.

Consultation with Indian Tribes

In accordance with the President's memorandum of April 29, 1994, Government-to-Government Relations with Native American Tribal Governments, Executive Order 13175 (59 FR 22951, November 6, 2000), the Commission has determined that consultations with Indian gaming tribes is not practicable, as Congress has mandated that the civil penalty adjustments in the Act be implemented no later than August 1, 2016.

Paperwork Reduction Act

This interim final rule does not affect any information collections under the Paperwork Reduction Act.

National Environmental Policy Act

This interim final rule does not constitute a major federal action significantly affecting the quality of the human environment.

Information Quality Act

In developing this interim final rule, the Commission did not conduct or use a study, experiment, or survey requiring peer review under the Information Quality Act (Pub. L. 106-554).

Effects on the Energy Supply

This interim final rule is not a significant energy action under the definition in Executive Order 13211. A Statement of Energy Effects is not required.

Clarity of this Regulation

The Commission is required by Executive Orders 12866 and 12988 and by the Presidential Memorandum of June 1, 1998, to write all rules in plain language. This means that each rule that the Commission publishes must:

(a) Be logically organized;

(b) use the active voice to address readers directly;

(c) use clear language rather than jargon;

(d) be divided into short sections and sentences; and

(e) use lists and tables wherever possible.

Required Determinations Under the Administrative Procedure Act

The Federal Civil Penalties Inflation Adjustment Act Improvements Act of 2015 requires agencies to adjust penalties for the catch-up adjustment through an interim final rulemaking. Therefore, the Commission is not required to complete a notice and comment process prior to promulgation.

List of Subjects in 25 CFR Part 575

Administrative practice and procedure, Gaming, Indian lands, Penalties.

For the reasons set forth in the preamble, the Commission amends 25 CFR part 575 as follows:

PART 575—CIVIL FINES

1. The authority citation for part 575 is revised to read as follows:

Authority: 25 U.S.C. 2705(a), 2706, 2713, 2715; and Sec. 701, Pub. L. 114-74, 129 Stat. 599.

2. Amend the introductory text of § 575.4 by removing “$25,000” and adding in its place “$49,467”.

Dated: June 28, 2016.
Jonodev O. Chaudhuri,
Chairman,
Kathryn Isom-Clause,
Vice Chairwoman,
E. Sequoyah Simermeyer,
Associate Commissioner.

[FR Doc. 2016-16009 Filed 7-5-16; 8:45 am]

BILLING CODE 7565-01-P